DEPARTMENT OF AGRICULTURE

Cooperative State Research, Education, and Extension Service

Notice of Solicitation for Membership to the Forestry Research Advisory Council

SUMMARY: In accordance with the Federal Advisory Committee Act, 5 U.S.C. app., the United States Department of Agriculture (USDA) announces solicitation for nominations to fill eight vacancies on the Forestry Research Advisory Council.

SUPPLEMENTARY INFORMATION: Section 1441 (c) of the Agriculture and Food Act of 1981 requires the establishment of the Forestry Research Advisory Council to provide advice to the Secretary of Agriculture on accomplishing efficiently the purposes of the Act of October 10, 1962 (16 U.S.C. 582a, et seq.), known as the McIntire-Stennis Act of 1962. The Council also provides advice related to the Forest Service research program, authorized by the Forest and Rangeland Resources Research Act of 1978 (Pub. L. 95-307, 92 Stat. 353, as amended; 16 U.S.C. 1600 (note)). The Council is composed of 20 voting members from the following membership categories:

• Federal and State agencies concerned with developing and utilizing the Nation's forest resources, in particular committee membership, will include representation from the National Forest System and Forest and Range Experiment Stations leaders, Forest Service;

• The forest industries;

• The forestry schools of the State-certified eligible institutions, and State agricultural experiment stations; and

• Volunteer public groups concerned with forests and related natural resources.

(Nomination of members representing the forestry schools will be sent to the Secretary by State-certified eligible forestry schools. This notice does not seek nominations representing those institutions.)

The Council membership is appointed with staggered terms of one, two, and three years. As a result of the staggered appointments, the terms of six members expired December 31, 2000. Nominations for a three-year appointment for all of the six vacant positions and two unfilled positions last year are sought. Nominees will be carefully reviewed for their broad expertise, leadership and relevancy to a membership category. Nominations for one individual who fits several of the categories, or for more than one person who fits one category will be accepted. Please indicate the specific membership category for each nominee. Each nominee must complete Form AD-755, Advisory Committee Membership Background Information (which can be obtained from the contact persons below) and will be vetted before selection. Send nominee's name, resume, and the completed Form AD-755 by mail to: Cooperative State Research, Education, and Extension Service; U. S. Department of Agriculture; Office of the Forestry Research Advisory Council; Mail Stop 2210; 1400 Independence Avenue, SW., Washington, DC 20250-2210. Nominations delivered by express mail or overnight courier service should be sent to: Office of the Forestry Research Advisory Council; Cooperative State Research, Education, and Extension Service; U. S. Department of Agriculture; Room 3211, Waterfront Centre; 800 9th Street, SW., Washington, DC 20024.

DATES: Nominations must be received on or before April 19, 2001.

FOR FURTHER INFORMATION CONTACT: Catalino A. Blanche, Designated Federal Officer, Forestry Research Advisory Council; Office of the Forestry Research Advisory Council; Cooperative State Research, Education, and Extension Service; U. S. Department of Agriculture; Mail Stop 2210; 1400 Independence Avenue, SW., Washington, DC 20250-2210; telephone: (202) 401-4190; fax: (202) 401-1706; e-mail: cblanche@reeusda.gov, or contact Dr. Hao Tran, Staff Assistant, Research and Development, Forest Service, U. S. Department of Agriculture; telephone: (202) 205-1293; fax: (202) 205-1530; e-mail: htran@fs.fed.us.

Done at Washington, DC this 12th day of March, 2001.
Dawn R. Riley,
Acting Deputy Under Secretary, Research, Education, and Economics.

[FR Doc. 01-6856 Filed 3-19-01; 8:45 am]

BILLING CODE 3410-22-P